DEPARTMENT OF COMMERCE

International Trade Administration

Villanova University; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-035. Applicant: Villanova University, Villanova, PA 19085. Instrument: fNOX500 Fast CLD System for NO analysis. Manufacturer: Cambustion Ltd, United Kingdom. Intended Use: See notice at 68 FR 48341, August 13, 2003.

Comments: None received. Decision: Approved. No instrument of equivalent scientific value to the foreign instrument, for such purposes as it is intended to be used, is being manufactured in the United States. Reasons: The foreign instrument provides extremely fast measurement of NOX gas components using an electrical photomultiplier detector with a 10-90% response time of 2.0 ms for use in automotive emissions research. The Southwest Research Institute advised August 26, 2003 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-23458 Filed 9-12-03; 8:45 am]

BILLING CODE 3510-DS-P